FEDERAL FINANCIAL INSTITUTIONS EXAMINATION COUNCIL

[Docket No. AS25-08]

Appraisal Subcommittee; Notice Of Meeting

AGENCY: Appraisal Subcommittee of the Federal Financial Institutions Examination Council

ACTION: Notice of special closed meeting

Description: In accordance with section 1104(b) of title XI of the Financial Institutions Reform, Recovery, and Enforcement Act of 1989, codified at 12 U.S.C. 3333(b), and the Appraisal Subcommittee (ASC) Rules of Operation, notice is hereby given that the ASC met for a Special Closed Meeting on these dates.

Location: Virtual meeting via Teams.

Date: April 24, 2025.

Time: 10:02 a.m. ET.

Location: Virtual meeting via Teams.

Date: July 14, 2025.

Time: 1:01 p.m. ET.

Action and Discussion Item

Personnel Matter

The ASC convened a Special Closed Meeting on the dates listed above to discuss a personnel matter pursuant to section 1104(b) of title XI (12 U.S.C. 3333(b)). No action was taken by the ASC.

Loretta Schuster,
Management & Program Analyst.

[FR Doc. 2025-14749 Filed 8-4-25; 8:45 am]

BILLING CODE 6700-01-P